Proclamation 8432 of October 2, 2009

Fire Prevention Week, 2009

By the President of the United States of America

A Proclamation

As powerful as any force in the natural world, fire deserves our utmost attention. Unchecked, fire can destroy homes, devastate our environment, and, at its worst, injure or fatally harm individuals. Fire Prevention Week is a time to learn about important fire safety issues and empower our communities to stay “Fire Smart.” It is also a time to honor our Nation's brave firefighters and volunteers who risk their lives to protect their fellow Americans.

Every year, thousands of Americans experience fires in their homes and workplaces. We can greatly reduce these tragedies by taking a few, very simple steps. For example, if each of us strives to remain attentive while cooking, to properly dispose of all smoking materials, and to regularly check and replace smoke alarm batteries, we can help keep our families safe from harm and protect personal property. Additional precautionary measures should also include the formation of an emergency plan and the education of our children about the proper ways to handle potentially dangerous situations with fire.

This week's theme, “Stay Fire Smart! Don’t Get Burned,” focuses on increasing burn awareness and prevention. We can each do more to avoid severe burns by testing water temperature, remaining aware of open flames, and ensuring that heating elements—such as those in electric stoves, toasters, hair appliances, and space heaters—are secure and operated properly. These easy, common sense practices can help Americans avoid suffering painful burns.

Fire can have a devastating impact on the life of an individual or family, and it can have far-reaching financial and human consequences. Wildfires can burn hundreds of acres and affect numerous communities, while household fires can spread to neighboring buildings. These and other emergency situations can endanger the lives of not only the public, but also our rescue workers and firefighters. During Fire Prevention Week, we are reminded of the dangers of fire, we honor the brave men and women who protect us from it, and we recommit ourselves to its responsible use.

NOW, THEREFORE, I, BARACK OBAMA, President of the United States of America, by virtue of the authority vested in me by the Constitution and the laws of the United States, do hereby proclaim October 4 through October 10, 2009, as Fire Prevention Week. On Sunday, October 4, 2009, in accordance with Public Law 107-51, the flag of the United States will be flown at half staff on all Federal office buildings in honor of the National Fallen Firefighters Memorial Service. I call on all Americans to participate in this observance with appropriate programs and activities and by renewing their efforts to prevent fires and their tragic consequences.

IN WITNESS WHEREOF, I have hereunto set my hand this second day of October, in the year of our Lord two thousand nine, and of the Independence of the United States of America the two hundred and thirty-fourth.

[FR Doc. E9-24444

Filed 10-7-09; 8:45 am]

Billing code 3195-W9-P